FEDERAL COMMUNICATIONS COMMISSION

47 CFR Part 73

[MB Docket No. 22-146; RM-11925; DA 23-17; FR ID 122668]

Television Broadcasting Services Memphis, Tennessee

AGENCY: Federal Communications Commission.

ACTION: Final rule.

SUMMARY: On April 5, 2022, the Media Bureau, Video Division (Bureau) issued a Notice of Proposed Rulemaking (NPRM) in response to a petition for rulemaking filed by Gray Television Licensee, LLC (Petitioner or Gray), the licensee of WMC-TV (Station or WMC-TV), channel 5, Memphis, Tennessee, requesting the substitution of channel 30 for channel 5 at Memphis in the Table of TV Allotments. For the reasons set forth in the Report and Order referenced below, the Bureau amends FCC regulations to substitute channel 30 for channel 5 at Memphis.

DATES: Effective January 17, 2023.

FOR FURTHER INFORMATION CONTACT: Joyce Bernstein, Media Bureau, at (202) 418-1647 or Joyce.Bernstein@fcc.gov.

SUPPLEMENTARY INFORMATION: The proposed rule was published at 87 FR 22166 on April 14, 2022. The Petitioner filed comments in support of the petition reaffirming its commitment to apply for channel 30. No other comments were filed.

The Bureau believes the public interest would be served by substituting channel 30 for channel 5 at Memphis, Tennessee. The proposed channel substitution will resolve significant over-the-air reception problems in WMC-TV's service area due to its operation on a low VHF channel, reception problems which the Commission has recognized can exist on VHF channels. An analysis using the Commission's TVStudy software tool indicates that WMC-TV's move from channel 5 to channel 30 is predicted to create an area where 4,072 persons may lose service. The loss area, however, is largely overlapped by the noise limited contours of other NBC affiliated stations and most viewers will continue to receive service from five or more stations. In addition, the Petitioner acquired three LPTV stations and constructed modified facilities to deliver NBC programming to viewers in the loss area. As a result, only 64 persons would either (1) no longer receive NBC network programming or (2) no longer receive service from five or more full power television services. In practice, Gray expects that few, if any, persons who are currently able to receive WMC-TV's over-the-air signal on channel 5 would no longer be able to receive WMC-TV's over-the-air signal as a result of the Station's transition to channel 30. Although the Petitioner's proposal would result in a loss for a limited number of viewers, the Bureau finds that the overall benefits of the proposed channel change outweighs any possible harm to the public interest when taking into account the ability of all but a de minimis number of viewers to access NBC programming from another source.

This is a synopsis of the Commission's Report and Order, MB Docket No. 22-146; RM-11925; DA 23-17, adopted January 9, 2023, and released January 9, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Tennessee, by revising the entry for Memphis to read as follows:

§ 73.622 Table of TV Allotments.

* * * * *

(j) * * *

Community | Channel No.
* * * * *
TENNESSEE
* * * * *
Memphis | 13, 23, 25, 28, * 29, 30, 31, 33
* * * * *

[FR Doc. 2023-00618 Filed 1-13-23; 8:45 am]

BILLING CODE 6712-01-P